DEPARTMENT OF HOMELAND SECURITY

Coast Guard

[Docket No. USCG-2022-0398]

Great Lakes Pilotage Advisory Committee Meeting

AGENCY: Coast Guard, Department of Homeland Security.

ACTION: Notice of federal advisory committee meeting.

SUMMARY: The Great Lakes Pilotage Advisory Committee (Committee) will meet at the Port of Monroe, Michigan, to discuss matters relating to Great Lakes Pilotage, including review of proposed Great Lakes Pilotage regulations and policies. The meeting will be open to the public.

DATES:

Meeting: The Committee will meet on Tuesday, September 13, 2022 from 8 a.m. to 5:30 p.m. Eastern Daylight Time. Please note that this meeting may adjourn early if the Committee has completed its business.

Comments and supporting documentations: To ensure your comments are received by Committee members before the meeting, submit your written comments no later than September 6, 2022.

ADDRESSES: The meeting will be held at Great Lakes Port Authorities and Marine Terminals, 10 Port Avenue, Monroe, MI 48161. https://portofmonroe.com.

Pre-registration Information: Pre-registration is not required for access. Attendees will be required to follow COVID-19 safety guidelines promulgated by the Centers for Disease Control and Prevention (CDC), which includes vaccinated persons not needing to wear masks. Masks will be provided for non-vaccinated attendees. CDC guidance on COVID protocols can be found here: https://www.cdc.gov/coronavirus/2019-ncov/communication/guidance.html.

The Great Lakes Pilotage Advisory Committee is committed to ensuring all participants have equal access regardless of disability status. If you require reasonable accommodation due to a disability to fully participate, please call or email the individual in the FOR FURTHER INFORMATION CONTACT section of this documents as soon as possible.

Instructions: You are free to submit comments at any time, including orally at the meeting, but if you want Committee members to review your comment before the meeting, please submit your comments no later than September 6, 2022. We are particularly interested in comments in the “Agenda” section below. We encourage you to submit comments through the Federal eRulemaking Portal at: https://www.regulations.gov. If your material cannot be submitted using https://www.regulations.gov call or email the individual in the FOR FURTHER INFORMATION CONTACT section of this document for alternate instructions. You must include the docket number USCG-2022-0398. Comments received will be posted without alteration at https://www.regulations.gov including any personal information you provided. You may wish to view the Privacy and Security Notice found via link https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Mr. Frank Levesque, Alternate Designated Federal Officer of the Great Lakes Pilotage Advisory Committee, telephone (571) 308-4941 or email Francis.R.Levesque@uscg.mil.

SUPPLEMENTARY INFORMATION: Notice of this meeting is in compliance with the Federal Advisory Committee Act (5 U.S.C. appendix). The Committee is established under the authority of 46 U.S.C. 9307, and makes recommendations to the Secretary of Homeland Security and the Coast Guard on matters relating to Great Lakes pilotage, including review of proposed Great Lakes pilotage regulations and policies.

Agenda: The Great Lakes Pilotage Advisory Committee will meet on Tuesday, September 13, 2022 to review, discuss, deliberate and formulate recommendations, as appropriate on the following topics:

1. Pilot Staffing.

2. Soo Locks Operations.

3. Pilotage Assessment.

4. Necessary and Reasonable Expenses for Ratemaking.

5. Rulemaking Process and Ex Parte Communications.

6. Role of the Pilot.

7. Importance of System Reliability.

8. Fees for weather disruption.

9. United States Registered Pilot Credential.

10. Cruise Ships.

11. Great Lake Pilotage Initiatives and Projects.

12. Winter Navigation.

13. Public comments.

A copy of all meeting documentation will be available at https://www.dco.uscg.mil/Our-Organization/Assistant-Commandant-for-Prevention-Policy-CG-5P/Marine-Transportation-Systems-CG-5PW/Office-of-Waterways-and-Ocean-Policy/Great-Lakes-Pilotage-Advisory-Committee/ by September 25, 2022. Alternatively, you may contact Mr. Frank Levesque as noted in the FOR FURTHER INFORMATION CONTACT section above.

Public comments or questions will be taken throughout the meeting as the Committee discusses the issues and prior to deliberations and voting. There will also be a public comment period at the end of the meeting. Speakers are requested to limit their comments to 5 minutes. Please note that the public comment period will end following the last call for comments. Contact the individual listed in the FOR FURTHER INFORMATION CONTACT section above, to register as a speaker.

Dated: July 7, 2022.
Michael D. Emerson,
Director, Marine Transportation Systems.

[FR Doc. 2022-14813 Filed 7-11-22; 8:45 am]

BILLING CODE 9110-04-P